DEPARTMENT OF VETERANS AFFAIRS

[OMB Control No. 2900-0068]

Agency Information Collection (Application for Service-Disabled Veterans Insurance) Activity Under OMB Review

AGENCY: Veterans Benefits Administration, Department of Veterans Affairs.

ACTION: Notice; republication.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument. We are republishing this notice because we inadvertently omitted certain information from the Federal Register notice published on January 18, 2011 (76 FR 2953). This document contains the omitted information and agrees with the information in the notice published on November 4, 2010 (75 FR 68036).

DATES: Comments must be submitted on or before April 8, 2011.

ADDRESSES: Submit written comments on the collection of information through http://www.Regulations.gov; or to VA's OMB Desk Officer, OMB Human Resources and Housing Branch, New Executive Office Building, Room 10235, Washington, DC 20503, (202) 395-7316. Please refer to “OMB Control No. 2900-0068” in any correspondence.

FOR FURTHER INFORMATION CONTACT: Denise McLamb, Enterprise Records Service (005R1B), Department of Veterans Affairs, 810 Vermont Avenue, NW., Washington, DC 20420, (202) 461-7485, fax (202) 461-0966 or e-mail denise.mclamb@va.gov. Please refer to “OMB Control No. 2900-0068.”

SUPPLEMENTARY INFORMATION: Title: Application for Service-Disabled Veterans Insurance, VA Forms 29-4364, 29-4364c and 29-0151.

OMB Control Number: 2900-0068.

Type of Review: Revision of a currently approved collection.

Abstract: Veterans complete VA Forms 29-4364 and 29-0151 to apply for service-disabled veterans insurance, designate a beneficiary and select an optional settlement. VA uses the data collected on VA Forms 29-4364 and 29-0151 to determine the claimant's eligibility for insurance.

VA Form 29-4364c is used by veterans who were rated unemployable or with certain severely disabling conditions. Veterans completing VA Form 29-4364c do not need to provide medical information to qualify for this insurance.

An agency may not conduct or sponsor, and a person is not required to respond to a collection of information unless it displays a currently valid OMB control number. The Federal Register Notice with a 60-day comment period soliciting comments on this collection of information was published on November 4, 2010, at pages 68036-68037.

Affected Public: Individuals or households.

Estimated Annual Burden: 8,333 hours.

Estimated Average Burden per Respondent: 20 minutes.

Frequency of Response: On occasion.

Estimated Number of Respondents: 25,000.

Dated: March 4, 2011.
By direction of the Secretary.
Denise McLamb,
Program Analyst, Enterprise Records Service.

[FR Doc. 2011-5330 Filed 3-8-11; 8:45 am]

BILLING CODE 8320-01-P